DEPARTMENT OF HOMELAND SECURITY

Coast Guard

33 CFR Part 100

[CGD05-06-038]

RIN 1625-AA08

Special Local Regulations for Marine Events; Prospect Bay, Kent Island Narrows, MD

AGENCY: Coast Guard, DHS.

ACTION: Notice of enforcement of regulation.

SUMMARY: The Coast Guard is implementing the special local regulations at 33 CFR 100.530 for the “Thunder on the Narrows” boat races, a marine event to be held August 5 and August 6, 2006, on the waters of Prospect Bay, near Kent Island Narrows, Maryland. These special local regulations are necessary to control vessel traffic due to the confined nature of the waterway and expected vessel congestion during the event. The effect will be to restrict general navigation in the regulated area for the safety of event participants, spectators and vessels transiting the event area.

DATES: Effective Dates: 33 CFR 100.530 will be enforced from 9:30 a.m. to 6:30 p.m. on August 5 and 6, 2006.

FOR FURTHER INFORMATION CONTACT: Mr. Ronald Houck, Marine Events Coordinator, Commander, Coast Guard Sector Baltimore, 2401 Hawkins Point Rd., Baltimore, MD 21226, and (410) 576-2674.

SUPPLEMENTARY INFORMATION: On August 5 and August 6, 2006, the Kent Narrows Racing Association will sponsor the “Thunder on the Narrows” powerboat races, on Prospect Bay, near Kent Island Narrows, Maryland. The event will consist of approximately 75 hydroplanes and jersey speed skiffs racing in heats counter-clockwise around an oval racecourse. A fleet of spectator vessels is expected to gather near the event site to view the race. In order to ensure the safety of participants, spectators and transiting vessels, 33 CFR 100.530 will be enforced for the duration of the event. Under provisions of 33 CFR 100.530, from 9:30 a.m. to 6:30 p.m. on August 5 and 6, 2006, vessels may not enter the regulated area without permission from the Coast Guard Patrol Commander. Spectator vessels may anchor outside the regulated area but may not block a navigable channel. Because these restrictions will be in effect for a limited period, they should not result in a significant disruption of maritime traffic.

In addition to this notice, the maritime community will be provided extensive advance notification via the Local Notice to Mariners, and marine information broadcasts so mariners can adjust their plans accordingly.

Dated: April 14, 2006.
Larry L. Hereth,
Rear Admiral, U.S. Coast Guard, Commander, Fifth Coast Guard District.

[FR Doc. 06-4203 Filed 5-3-06; 8:45 am]

BILLING CODE 4910-15-P